COMMISSION ON CIVIL RIGHTS

Agenda and Notice of Public Meeting of the Michigan Advisory Committee

Notice is hereby given, pursuant to the provisions of the rules and regulations of the U.S. Commission on Civil Rights (Commission), and the Federal Advisory Committee Act (FACA), that a planning meeting of the Michigan Advisory Committee to the Commission will convene by conference call at 11:00 a.m. EST and adjourn at 1:00 p.m. EST on July 24, 2013. The purpose of the meeting is to allow Committee members the opportunity to advise the Commission on various civil rights issues in Michigan. The meeting will include an orientation to new members followed by presentations and discussion of various civil rights issues.

This meeting is available to the public through the following toll-free call-in number: 888-438-5524, conference ID: 7822139. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are entitled to submit written comments. The comments must be received in the regional office by August 7, 2013. The address is US Commission on Civil Rights, Midwestern Regional Office, 55 W. Monroe St., Suite 410, Chicago, IL 60603. Comments may be emailed to callen@usccr.gov. Records generated by this meeting may be inspected and reproduced at the Midwestern Regional Office, as they become available, both before and after the meeting, and they will be uploaded onto the database at www.facadatabase.gov. Persons interested in the work of this advisory committee are advised to go to the Commission's Web site, www.usccr.gov, or to contact the Midwestern Regional Office at the above email or street address.

The meeting will be conducted pursuant to the provisions of the rules and regulations of the Commission and FACA.

Dated in Chicago, IL: June 26, 2013.
David Mussatt,
Acting Chief, Regional Programs Coordination Unit.

[FR Doc. 2013-16131 Filed 7-3-13; 8:45 am]

BILLING CODE P